DEPARTMENT OF HOUSING AND URBAN DEVELOPMENT

[Docket No. FR-5121-N-07]

Notice of Proposed Information Collection: Comment Request; Implementation of the Violence Against Women and Department of Justice Reauthorization Act of 2005

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: April 9, 2007.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8001, Washington, DC 20410 or Lillian_L._Deitzer@hud.gov.

FOR FURTHER INFORMATION CONTACT: Gail Williamson, Office of Housing Assistance and Contract Administration, 451 7th Street, SW., Washington, DC 20410, telephone (202) 402-2473 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Implementation of the Violence Against Women and Department of Justice Reauthorization Act of 2005.

OMB Control Number, if applicable: 2502-NEW.

Description of the need for the information and proposed use: Residents of Section 8 project-based units who are victims of abuse sign and submit to the project owner or management agent a form certifying that the individual is a victim of domestic violence, dating violence, or stalking and that the incident in question is bona fide. Owners and management agents will use the information in order to evaluate whether individuals are eligible to receive VAWA 2005 protections that will enable the individuals to retain their housing assistance and/or occupancy of subsidized housing units.

Agency form numbers, if applicable: HUD-90066.

Estimation of the total numbers of hours needed to prepare the information collection including number of respondents, frequency of response, and hours of response: The estimated total number of burden hours needed to prepare the information collection is 900; the number of respondents is estimated to be 300 generating approximately 900 annual responses (form HUD-90066); the frequency of response is on occasion; and the estimated time needed to prepare the response is one hour.

Status of the proposed information collection: This is a new collection.

Authority: The Paperwork Reduction Act of 1995, 44 U.S.C., Chapter 35, as amended.

Dated: January 31, 2007.
Frank L. Davis,
General Deputy Assistant Secretary for Housing-Deputy Federal Housing Commissioner.

[FR Doc. E7-2032 Filed 2-6-07; 8:45 am]

BILLING CODE 4210-67-P